DEPARTMENT OF HEALTH AND HUMAN SERVICES

National Institutes of Health

Center for Scientific Review; Amended Notice of Meeting

Notice is hereby given of a change in the meeting of the Center for Scientific Review Special Emphasis Panel, June 18, 2000, 4 p.m. to June 18, 2000, 5:30 p.m., Delta Chelsea Hotel, 33 Gerrard Street West Toronto, Ontario, ON 000000 which was published in the Federal Register on June 7, 2000, 65 FR 36154-36156.

The meeting times have been changed to 6 p.m.-7 p.m. The meeting date and location remain the same. The meeting is closed to the public.

Dated: June 14, 2000.
LaVerne Y. Stringfield,
Director, Office of Federal Advisory Committee Policy.

[FR Doc. 00-15748 Filed 6-21-00; 8:45 am]

BILLING CODE 4140-01-M